BUREAU OF CONSUMER FINANCIAL PROTECTION

12 CFR Chapter X

[Docket No.: CFPB-HQ-2011-1]

Identification of Enforceable Rules and Orders

AGENCY: Bureau of Consumer Financial Protection.

ACTION: Notice for Public Comment.

SUMMARY: Section 1063(i) of the Consumer Financial Protection Act of 2010 (“Act”) ¹ requires the Bureau of Consumer Financial Protection (“CFPB” or “Bureau”) to publish in the Federal Register a list of the rules and orders that will be enforced by the CFPB. This notice sets forth a list for public comment. A final list will be published not later than the designated transfer date, July 21, 2011.

¹ The Act is Title X of the Dodd-Frank Wall Street Reform and Consumer Protection Act, Public Law 111-203.

DATES: Comments are invited and must be received on or before June 30, 2011.

ADDRESSES: Interested parties are invited to submit written comments electronically or in paper form. Comments should refer to “Docket No. CFPB-HQ-2011-1.” Comments should be submitted to:

• Electronic: http://www.regulations.gov.

• Mail or Hand Delivery/Courier in Lieu of Mail: Office of the General Counsel, CFPB, 1801 L Street, NW., Washington, DC 20036.

All comments received will be posted to http://www.regulations.gov. In addition, comments will be available for public inspection and copying in Treasury's Library, Room 1428, Main Treasury Building, 1500 Pennsylvania Avenue, NW., Washington, DC 20220, on official business days between the hours of 10 a.m. and 5 p.m. Eastern Time. An appointment to inspect comments can be made by telephoning (202) 622-0990.

All comments, including attachments and other supporting materials, will become part of the public record and subject to public disclosure. Sensitive personal information, such as account numbers or social security numbers, should not be included. Comments will not be edited to remove any identifying or contact information.

FOR FURTHER INFORMATION CONTACT: Rebecca G. Deutsch, Office of the General Counsel, CFPB, 1801 L Street, NW., Washington, DC 20036, rebecca.deutsch@treasury.gov.

SUPPLEMENTARY INFORMATION: Under the Act, on the designated transfer date, July 21, 2011,² certain consumer financial protection authorities will transfer from seven transferor agencies ³ to the CFPB, and the CFPB will also assume certain new authorities. Subject to the limitations and other provisions of the Act, the CFPB will be authorized to enforce, inter alia, rules and orders issued by the transferor agencies under the enumerated consumer laws.⁴ The CFPB will also have authority to enforce in some circumstances the Federal Trade Commission's Telemarketing Sales Rule and its rules under the Federal Trade Commission Act, although the Federal Trade Commission will retain full authority over these rules.⁵

² The Secretary of the Treasury designated this date pursuant to section 1062 of the Act. See 75 FR 57252-02, Sept. 20, 2010.

³ Section 1061(a)(2) of the Act defines the terms “transferor agency” and “transferor agencies” to mean, respectively, “(A) the Board of Governors (and any Federal Reserve Bank, as context requires), the Federal Deposit Insurance Corporation, the Federal Trade Commission, the National Credit Union Administration, the Office of the Comptroller of the Currency, the Office of Thrift Supervision, and the Department of Housing and Urban Development, and the heads of those agencies, and (B) the agencies listed in subparagraph (A) collectively.”

⁴ “Enumerated consumer laws” is defined in section 1002(12) of the Act and section 1400(b) of the Mortgage Reform and Anti-Predatory Lending Act, Tit. XIV, Public Law 111-203.

⁵ These rules are listed as items 1 and 5 through 11 in section F (“Federal Trade Commission”) of the list below.

Section 1063(i) of the Act provides that, not later than the designated transfer date, the CFPB “(1) shall, after consultation with the head of each transferor agency, identify the rules and orders that will be enforced by the Bureau; and (2) shall publish a list of such rules and orders in the Federal Register.” The CFPB has consulted with each transferor agency pursuant to section 1063(i) and has developed a list of rules for which it seeks public comment.⁶ After consultation, neither the transferor agencies nor the CFPB have identified any orders for inclusion in the list. After considering any public comments, the CFPB will publish a final list in the Federal Register not later than the designated transfer date.

⁶ Section 1066 of the Act grants the Secretary of the Treasury interim authority to perform certain functions of the CFPB. Pursuant to that authority, Treasury publishes this notice on behalf of the CFPB.

The CFPB's enforcement authority is defined by the Act and other applicable law. As a result, the list required by section 1063(i) will not have a substantive effect on any rules or orders or the parties who may be subject to them; it will merely provide a convenient reference source. Accordingly, the inclusion or exclusion of any rule or order would not alter the CFPB's authority. In addition, section 1063(i) does not require the CFPB to update, correct, or otherwise maintain the final list. Because the list under section 1063(i) reflects the CFPB's interpretation of its authority under the Act and relates to agency organization, procedure, or practice, the list is not subject to the notice-and-comment requirements of the Administrative Procedure Act (“APA”) (5 U.S.C. 551 et seq).⁷ Nevertheless, the Bureau invites public comment during a thirty-day period.

⁷ Because publication of the list under section 1063(i) is not subject to the APA's notice-and-comment requirements, an initial regulatory flexibility analysis is not required under the Regulatory Flexibility Act (5 U.S.C. 601 et seq.).

Accordingly, pursuant to section 1063(i), the CFPB invites public comment on the following list of rules that will be enforceable by the CFPB subject to the limitations and other provisions of the Act:⁸

⁸ Unless otherwise noted, all references to a Part include accompanying appendices and supplements.

A. Board of Governors of the Federal Reserve

1. 12 CFR Part 202—Equal Credit Opportunity Act (Regulation B)

2. 12 CFR Part 203—Home Mortgage Disclosure (Regulation C)

3. 12 CFR Part 205—Electronic Fund Transfers (Regulation E)

4. 12 CFR 208.101-105 & Appendix A to Subpart I—Registration of Residential Mortgage Loan Originators (Regulation H, Subpart I)

5. 12 CFR Part 213—Consumer Leasing (Regulation M)

6. 12 CFR Part 216—Privacy of Consumer Financial Information (Regulation P)

7. 12 CFR Part 222—Fair Credit Reporting (Regulation V), except with respect to §§ 222.1(c) (effective dates), 222.83 (Disposal of consumer information), 222.90 (Duties regarding the detection, prevention, and mitigation of identity theft), 222.91 (Duties of card issuers regarding changes of address), & Appendix J (Interagency Guidelines on Identity Theft Detection, Prevention, and Mitigation)

8. 12 CFR Part 226—Truth in Lending (Regulation Z)

9. 12 CFR Part 230—Truth in Savings (Regulation DD)

B. Federal Deposit Insurance Corporation

1. 12 CFR Part 332—Privacy of Consumer Financial Information

2. 12 CFR Part 334—Fair Credit Reporting, except with respect to §§ 334.83 (Disposal of consumer information), 334.90 (Duties regarding the detection, prevention, and mitigation of identity theft), 334.91 (Duties of card issuers regarding changes of address), & Appendix J (Interagency Guidelines on Identity Theft Detection, Prevention, and Mitigation)

3. 12 CFR 365.101-.105 & Appendix A to Subpart B—Registration of Residential Mortgage Loan Originators

C. Office of the Comptroller of the Currency

1. 12 CFR 34.20-.25—Adjustable-Rate Mortgages (but only as applied to non-federally chartered housing creditors under the Alternative Mortgage Transaction Parity Act (“AMTPA”))

2. 12 CFR 34.101-.105 & Appendix A to Subpart F—Registration of Residential Mortgage Loan Originators

3. 12 CFR Part 40—Privacy of Consumer Financial Information

4. 12 CFR Part 41—Fair Credit Reporting, except with respect to §§ 41.83 (Disposal of consumer information), 41.90 (Duties regarding the detection, prevention, and mitigation of identity theft), 41.91 (Duties of card issuers regarding changes of address), & Appendix J (Interagency Guidelines on Identity Theft Detection, Prevention, and Mitigation)

D. Office of Thrift Supervision

1. 12 CFR 560.35—Adjustments to home loans (but only as applied to non-federally chartered housing creditors under AMTPA)

2. 12 CFR 560.210-220—Alternative Mortgage Transactions (but only as it relates to AMTPA)

3. 12 CFR 563.101-.105 & Appendix A to Subpart D—Registration of Residential Mortgage Loan Originators

4. 12 CFR Part 571—Fair Credit Reporting, except with respect to §§ 571.83 (Disposal of consumer information), 571.90 (Duties regarding the detection, prevention, and mitigation of identity theft), 571.91 (Duties of card issuers regarding change of address), & Appendix J (Interagency Guidelines on Identity Theft Detection, Prevention, and Mitigation)

5. 12 CFR Part 573—Privacy of Consumer Financial Information

E. National Credit Union Administration

1. 12 CFR 701.21—Loans to members and lines of credit to members (but only as applied to non-federally chartered housing creditors under AMTPA)

2. 12 CFR Part 707—Truth in Savings

3. 12 CFR Part 716—Privacy of Consumer Financial Information

4. 12 CFR Part 717—Fair Credit Reporting, except with respect to §§ 717.83 (Disposal of consumer information), 717.90 (Duties regarding the detection, prevention, and mitigation of identity theft), 717.91 (Duties of card issuers regarding changes of address), & Appendix J (Interagency Guidelines on Identity Theft Detection, Prevention, and Mitigation)

5. 12 CFR Part 741—Requirements for Insurance, but only with respect to §§ 741.217 (Truth in savings), 741.220 (Privacy of consumer financial information), & 741.223 (Registration of residential mortgage loan originators)

6. 12 CFR Part 761—Registration of Mortgage Loan Originators

F. Federal Trade Commission

1. 16 CFR Part 310—Telemarketing Sales Rule

2. 16 CFR Part 313—Privacy of Consumer Financial Information

3. 16 CFR Part 320—Disclosure Requirements for Depository Institutions Lacking Federal Depository Insurance

4. 16 CFR Part 322—Mortgage Assistance Relief Services

5. 16 CFR Part 425—Use of Prenotification Negative Option Plans

6. 16 CFR Part 429—Rule Concerning Cooling-Off Period for Sales Made at Homes or at Certain Other Locations

7. 16 CFR Part 433—Preservation of Consumers' Claims and Defenses

8. 16 CFR Part 444—Credit Practices

9. 16 CFR Part 435—Mail or Telephone Order Merchandise

10. 16 CFR Part 436—Disclosure Requirements and Prohibitions Concerning Franchising

11. 16 CFR Part 437—Disclosure Requirements and Prohibitions Concerning Business Opportunities

12. 16 CFR Subchapter F, Parts 603 et seq.—Fair Credit Reporting Act, except with respect to Part 681 (Identity Theft Rules), Part 682 (Disposal of Consumer Report Information and Records), & Appendix A to Part 681 (Interagency Guidelines on Identity Theft Detection, Prevention, and Mitigation)

13. 16 CFR Part 901—Procedures for State Application for Exemption from the Provisions of the [Fair Debt Collection Practices] Act

G. Department of Housing and Urban Development

1. 24 CFR 26.28-.56—Hearing Procedures Pursuant to the Administrative Procedure Act

2. 24 CFR Part 30—Civil Money Penalties: Certain Prohibited Conduct (but only as applied to the Real Estate Settlement Procedures Act of 1974 (“RESPA”) and the Interstate Land Sales Full Disclosure Act (“ILSA”))

3. 24 CFR Part 1710—Land Registration

4. 24 CFR Part 1715—Purchasers' Revocation Rights, Sales Practices, and Standards

5. 24 CFR Part 1720—Formal Procedures and Rules of Practice

6. 24 CFR Part 3500—Real Estate Settlement Procedures Act

7. 24 CFR Part 3800—Investigations in Consumer Regulatory Programs (but only as applied to RESPA and ILSA)

Dated: May 23, 2011.
Rebecca Ewing,
Acting Executive Secretary, U.S. Department of the Treasury.

[FR Doc. 2011-13256 Filed 5-27-11; 8:45 am]

BILLING CODE 4810-25-P